DEPARTMENT OF ENERGY

Federal Energy Regulatory Commission

Notice of Attendance at PJM Interconnection, LLC Meetings

The Federal Energy Regulatory Commission (Commission) hereby gives notice that members of the Commission and Commission staff may attend upcoming PJM Interconnection, LLC (PJM) Members Committee and Markets and Reliability Committee meetings, as well as other PJM committee, subcommittee or task force meetings.¹ The Commission and Commission staff may attend the following meetings:

¹ For example, PJM subcommittees and task forces of the standing committees (Operating, Planning and Market Implementation) and senior standing committees (Members and Markets and Reliability) meet on a variety of different topics; they convene and dissolve on an as-needed basis. Therefore, the Commission and Commission staff may monitor the various meetings posted on the PJM Web site.

PJM Members Committee

• April 23, 2015 (Wilmington, DE)

• May 19-21, 2015 (Atlantic City, NJ)

• June 25, 2015 (TBD)

• August, 27, 2015 (TBD)

• September 24, 2015 (TBD)

• October 22, 2015 (TBD)

• November 19, 2015 (TBD)

PJM Markets and Reliability Committee

• April 23, 2015 (Wilmington, DE)

• May 28, 2015 (Wilmington, DE)

• June 25, 2015 (Wilmington, DE)

• July 23, 2015 (Wilmington, DE)

• August 27, 2015 (Wilmington, DE)

• September 24, 2015 (TBD)

• October 22, 2015 (TBD)

• November 19, 2015 (TBD)

• December 17, 2015 (TBD)

PJM Market Implementation Committee

• April 8, 2015 (Audubon, PA)

• May 6, 2015 (Audubon, PA)

• June 10, 2015 (Audubon, PA)

• July 8, 2015 (Audubon, PA)

• August 12, 2015 (Audubon, PA)

• September 9, 2015 (Audubon, PA)

• October 7, 2015 (Audubon, PA)

• November 4, 2015 (Audubon, PA)

• December 2, 2015 (Audubon, PA)

The discussions at each of the meetings described above may address matters at issue in pending proceedings before the Commission, including the following currently pending proceedings:

Docket No. EL05-121, PJM Interconnection, L.L.C.

Docket No. EL08-14, Black Oak Energy LLC, et al., v. FERC

Docket No. ER09-1148, PPL Electric Utilities Corporation

Docket No. ER09-1256, Potomac-Appalachian Transmission Highline, L.L.C.

Docket Nos. ER09-1589 and EL10-6, FirstEnergy Service Company

Docket No. EL10-52, Central Transmission, L.L.C. v. PJM Interconnection, L.L.C.

Docket No. EL11-54, Buckeye Power, Inc. v. American Transmission Systems Incorporated

Docket No. ER11-1844, Midwest Independent Transmission System Operator, Inc.

Docket No. AD12-1 and ER11-4081, Midwest Independent Transmission

System Operator, Inc.

Docket No. AD12-16, Capacity Deliverability Across the Midwest Independent Transmission System Operator, Inc./PJM Interconnection, L.L.C. Seam

Docket No. EL12-54, Viridity Energy, Inc. v. PJM Interconnection, L.L.C.

Docket No. ER12-91, PJM Interconnection, L.L.C.

Docket No. ER12-92, PJM Interconnection, L.L.C., et al.

Docket No. ER12-2399, PJM Interconnection, L.L.C.

Docket No. ER12-2708, PJM Interconnection, L.L.C.

Docket No. EL13-47, FirstEnergy Solutions Corporation v. PJM Interconnection, L.L.C. et al.

Docket No. ER13-90, Public Service Electric and Gas Company and PJM Interconnection, L.L.C.

Docket No. ER13-195, Indicated PJM Transmission Owners

Docket No. ER13-198, PJM Interconnection, L.L.C.

Docket No. ER13-349-001, PJM Interconnection, L.L.C.

Docket No. ER13-535, PJM Interconnection, L.L.C.

Docket No. ER13-1654, PJM Interconnection, L.L.C.

Docket No. ER13-1924, PJM Interconnection, L.L.C.

Docket No. ER13-1926, PJM Interconnection, L.L.C.

Docket No. ER13-1927, PJM Interconnection, L.L.C.

Docket No. ER13-1936, PJM Interconnection, L.L.C.

Docket No. ER13-1944, PJM Interconnection, L.L.C.

Docket No. ER13-1947, PJM Interconnection, L.L.C.

Docket No. ER13-2108, PJM Interconnection, L.L.C.

Docket No. EL14-20, Independent Market Monitor v. PJM Interconnection, L.L.C.,

Docket No. EL14-45, Duke Energy Corporation, et al., v. PJM Interconnection, L.L.C.

Docket No. EL14-55, FirstEnergy Service Company v. PJM Interconnection, L.L.C.

Docket Nos. EL14-94, EL14-36, FirstEnergy Solutions Corporation and PJM Interconnection, L.L.C.

Docket No. ER14-972, PJM Interconnection, L.L.C.

Docket No. ER14-503, PJM Interconnection, L.L.C.

Docket No. ER14-504, PJM Interconnection, L.L.C.

Docket No. ER15-746, RC Cape May Holdings, LLC

Docket No. ER14-822, PJM Interconnection, L.L.C.

Docket No. ER14-1144, PJM Interconnection, L.L.C.

Docket No. ER14-1145, PJM Interconnection, L.L.C.

Docket No. ER14-1461, PJM Interconnection, L.L.C.

Docket No. ER14-1485, PJM Interconnection, L.L.C.

Docket No. ER14-2242, Old Dominion Electric Cooperative

Docket Nos. ER14-2864, ER14-2867, PJM Interconnection, L.L.C., and Baltimore Gas & Electric Company, et al.

Docket No. ER14-2940, PJM Interconnection, L.L.C.

Docket No. EL15-15, ER15-696, PJM Interconnection, L.L.C.

Docket No. EL15-18, Consolidated Edison Company of New York, Inc. v. PJM Interconnection, L.L.C.

Docket No. EL15-31, PJM Interconnection, L.L.C.

Docket No. EL15-38, RTO Energy Trading, LLC

Docket No. EL15-40, Public Service Electric and Gas Company v. PJM Interconnection, L.L.C.

Docket No. EL15-41, Essential Power Rock Springs, LLC, et al., v. PJM Interconnection, L.L.C.

Docket No. EL15-46, Champion Energy Marketing LLC v. PJM Interconnection, L.L.C.

Docket No. ER15-61, PJM Interconnection, L.L.C., and American Transmission Systems, Incorporated

Docket No. ER15-135, PJM Interconnection, L.L.C.

Docket Nos. ER15-623, EL15-29, PJM Interconnection, L.L.C.

Docket No. ER15-643, PJM Interconnection, L.L.C.

Docket No. ER15-738, PJM Interconnection, L.L.C.

Docket No. ER15-739, PJM Interconnection, L.L.C.

Docket No. ER15-834, Illinois Municipal Electric Agency

Docket No. ER15-852, PJM Interconnection, L.L.C.

Docket No. ER15-952, New Jersey Energy Associates, A Limited Partnership

Docket No. ER15-1193, PJM Interconnection, L.L.C.

Docket No. ER15-1232, Illinois Municipal Electric Agency

Docket No. ER13-1957, ISO New England Inc., New York Independent System Operator, Inc., and PJM Interconnection, L.L.C.

Docket No. ER13-1942, New York Independent System Operator, Inc.

Docket No. ER13-1946, New York Independent System Operator, Inc.

Docket No. ER13-1947, PJM Interconnection, L.L.C.

Docket No. ER13-1960, ISO New England Inc. and New England Power Pool Participants Committee

Docket No. ER13-1926, PJM Interconnection, L.L.C. and Duquesne Light Company

Docket No. ER13-1944, PJM Interconnection, L.L.C.

Docket No. ER13-1943, Midcontinent Independent System Operator, Inc.

Docket No. ER13-1924, PJM Interconnection, L.L.C. and Duquesne Light Company

Docket No. ER13-1945, Midcontinent Independent System Operator, Inc.

Docket No. ER13-1955, Entergy Services, Inc.

Docket No. ER13-1956, Cleco Power LLC

Docket No. ER15-376, Calpine Energy Services, L.P.

For additional meeting information, see: http://www.pjm.com/committees-and-groups.aspx and http://www.pjm.com/Calendar.aspx.

The meetings are open to stakeholders. For more information, contact Valerie Martin, Office of Energy Market Regulation, Federal Energy Regulatory Commission at (202) 502-6139 or Valerie.Martin@ferc.gov.

Dated: March 30, 2015.
Kimberly D. Bose,
Secretary.

[FR Doc. 2015-07761 Filed 4-3-15; 8:45 am]

BILLING CODE 6717-01-P